DEPARTMENT OF COMMERCE

International Trade Administration

[A-570-979, A-570-010]

Antidumping Duty Orders on Crystalline Silicon Photovoltaic Cells, Whether or Not Assembled Into Modules, From the People's Republic of China and Antidumping Duty Orders on Certain Crystalline Silicon Photovoltaic Products From the People's Republic of China: Final Results of Changed Circumstances Reviews

AGENCY: Enforcement and Compliance, International Trade Administration, Department of Commerce.

SUMMARY: On March 6, 2017, the Department of Commerce (the “Department”) published its notice of initiation and preliminary results of changed circumstances reviews (“CCRs”) of the antidumping duty (“AD”) orders on crystalline silicon photovoltaic cells, whether or not assembled into modules, (“solar cells”) from the People's Republic of China (“PRC”) and certain crystalline silicon photovoltaic products (“solar products”) from the PRC (Preliminary Results).

The Department preliminarily determined that Hanwha Q CELLS (Qidong) Co. Ltd. (“Q CELLS Qidong”) is the successor-in-interest to Hanwha SolarOne (Qidong) Co., Ltd. (“SolarOne Qidong”) for purposes of the AD orders on solar cells and solar products from the PRC and that Hanwha Q CELLS Hong Kong Limited (“Q CELLS Hong Kong”) is the successor-in-interest to Hanwha SolarOne Hong Kong Limited (“SolarOne Hong Kong”) for purposes of the AD order on solar products from the PRC. As such, the Department preliminarily determined that Q CELLS Qidong is entitled to SolarOne Qidong's AD cash deposit rates for purposes of the AD orders on solar cells and solar products from the PRC and Q CELLS Hong Kong is entitled to SolarOne Hong Kong's AD cash deposit rate for purposes of the AD order on solar products from the PRC.

We provided interested parties 14 days from the date of publication of the Preliminary Results to submit case briefs or request a hearing. No interested parties submitted case briefs or requested a hearing.

For these final results, the Department finds that Q CELLS Qidong is the successor-in-interest to SolarOne Qidong for purposes of the AD orders on solar cells and solar products from the PRC and Q CELLS Hong Kong is the successor-in-interest to SolarOne Hong Kong for purposes of the AD order on solar products from the PRC.

DATES: Effective April 13, 2017.

FOR FURTHER INFORMATION CONTACT: Eli Lovely, AD/CVD Operations, Office IV, Enforcement and Compliance, International Trade Administration, U.S. Department of Commerce, 1401 Constitution Avenue NW., Washington, DC 20230; telephone: (202) 482-1593.

SUPPLEMENTARY INFORMATION:

Background

On December 7, 2012, the Department published the AD order on solar cells from the PRC in the Federal Register.¹ On February 18, 2015, the Department published the AD order on solar products from the PRC in the Federal Register.² On September 8, 2016, the Department received a request on behalf of Q CELLS Hong Kong and Q CELLS Qidong for expedited CCRs to establish Q CELLS Hong Kong as the successor-in-interest to SolarOne Hong Kong ³ and to establish Q CELLS Qidong as the successor-in-interest to SolarOne Qidong for purposes of the of the AD and countervailing duty (“CVD”) orders on solar cells from the PRC and solar products from the PRC.⁴ On September 23, 2016, Q CELLS Hong Kong and Q CELLS Qidong withdrew their request for CCRs with respect to the CVD orders on solar cells and solar products from the PRC.⁵ The Department received comments on October 11, 2016 from SolarWorld Americas, Inc. (“Petitioner”) concerning Q CELLS Hong Kong and Q CELLS Qidong's CCR request.⁶ On February 24, 2017, the Department initiated the instant CCRs and made a preliminary finding that: Q CELLS Qidong is the successor-in-interest to SolarOne Qidong and is entitled to SolarOne Qidong's AD cash deposit rates with respect to the AD orders on solar cells and solar products from the PRC and Q CELLS Hong Kong is the successor-in-interest to SolarOne Hong Kong and is entitled to SolarOne Hong Kong's AD cash deposit rate with respect to the AD order on solar products from the PRC.⁷ We provided interested parties 14 days from the date of publication of the Preliminary Results to submit case briefs. No interested parties submitted case briefs or requested a hearing.

¹ See Crystalline Silicon Photovoltaic Cells, Whether or Not Assembled Into Modules, from the People's Republic of China: Amended Final Determination of Sales at Less Than Fair Value, and Antidumping Duty Order, 77 FR 73018 (December 7, 2012) (“Solar Cells Order”).

² See Certain Crystalline Silicon Photovoltaic Products from the People's Republic of China: Antidumping Duty Order; and Amended Final Affirmative Countervailing Duty Determination and Countervailing Duty Order, 80 FR 8592 (February 18, 2015) (“Solar Products Order”).

³ In the initiation and preliminary results notice, the Department inadvertently referred to this company as SolarOne Hong Kong Limited rather than the full company name, Hanwha SolarOne Hong Kong Limited.

⁴ See letter on the solar cells and solar products AD and CVD orders from Q CELLS Hong Kong and Q CELLS Qidong to the Department regarding, “Changed Circumstances Review Request” (September 8, 2016) (“CCR Request”).

⁵ See letter from Q CELLS Hong Kong and Q CELLS Qidong to the Department regarding “Withdrawal of Changed Circumstances Review Request Regarding Case Nos. C-570-980 and C-570-011.”

⁶ See Letter from SolarWorld Americas, Inc. to the Department regarding, “Comments on Hanwha Q Cells Hong Kong Limited and Hanwha Q CELLS (Qidong) Co., Ltd.'s Request for a Changed Circumstances Review” (October 11, 2016) (“Petitioner's Comments”).

⁷ See Initiation and Preliminary Results of Changed Circumstances Reviews: Antidumping Duty Orders on Crystalline Silicon Photovoltaic Cells, Whether or Not Assembled Into Modules, from the People's Republic of China and Antidumping Duty Order on Certain Crystalline Silicon Photovoltaic Products from the People's Republic of China; 82 FR 12558 (March 6, 2017) (“Preliminary Results”) and accompanying Preliminary Decision Memorandum.

Scope of the Orders

The merchandise covered by the Solar Cells Order is crystalline silicon photovoltaic cells, and modules, laminates, and panels, consisting of crystalline silicon photovoltaic cells, whether or not partially or fully assembled into other products, including, but not limited to, modules, laminates, panels, and building integrated materials. Imports of the merchandise subject to the Solar Cells Order are currently classified under the following subheadings of the Harmonized Tariff Schedule of the United States (“HTSUS”): 8501.61.0000, 8507.20.80, 8541.40.6020, 8541.40.6030, and 8501.31.8000.⁸

⁸ For a complete description of the scopes of these orders, see the Memorandum to Ronald K. Lorentzen, Acting Assistant Secretary for Enforcement and Compliance, from James Maeder, Senior Director, Office I for Antidumping and Countervailing Duty Operations, “Initiation and Preliminary Results of Changed Circumstances Reviews: Crystalline Silicon Photovoltaic Cells, Whether or Not Assembled Into Modules, from the People's Republic of China and Certain Crystalline Silicon Photovoltaic Products from the People's Republic of China,” (“Preliminary Decision Memorandum”).

The merchandise covered by the Solar Products Order is modules, laminates and/or panels consisting of crystalline silicon photovoltaic cells, whether or not partially or fully assembled into other products, including building integrated materials. Subject merchandise includes modules, laminates and/or panels assembled in the PRC consisting of crystalline silicon photovoltaic cells produced in a customs territory other than the PRC. Imports of the merchandise subject to the Solar Products Order are currently classified under the following subheadings of the HTSUS: 8501.61.0000, 8507.20.8030, 8507.20.8040, 8507.20.8060, 8507.20.8090, 8541.40.6020, 8541.40.6030 and 8501.31.8000. These HTSUS subheadings are provided for convenience and customs purposes; the written description of the scope of these orders is dispositive.⁹

⁹ Id.

Final Results of the Changed Circumstances Reviews

Because no interested party submitted comments on, and the record contains no information or evidence that calls into question, the Preliminary Results, the Department adopts the analysis from the Preliminary Results and Preliminary Decision Memorandum and continues to find that Q CELLS Qidong is the successor-in-interest to SolarOne Qidong with respect to the AD orders on solar cells and solar products from the PRC, and that Q CELLS Hong Kong is the successor-in-interest to SolarOne Hong Kong with respect to the AD order on solar products from the PRC. Therefore, Q CELLS Qidong is entitled to the AD cash deposit rate of SolarOne Qidong for purposes of the AD orders on solar cells and solar products from the PRC, and Q CELLS Hong Kong is entitled to the AD cash deposit rate of SolarOne Hong Kong for purposes of the AD order on solar products from the PRC.

Instructions to U.S. Customs and Border Protection

Based on these final results, we intend to instruct U.S. Customs and Border Protection (“CBP”) to collect estimated duties for all shipments of solar cells from the PRC and solar products from the PRC exported and produced by Q CELLS Qidong and entered, or withdrawn from warehouse, for consumption on or after the publication date of this notice in the Federal Register at the current AD cash deposit rates for SolarOne Qidong. Those cash deposit rates are 13.18 percent ¹⁰ and 30.06 percent,¹¹ respectively.¹²

¹⁰ See Implementation of Determinations Under Section 129 of the Uruguay Round Agreements Act: Citric Acid and Citrate Salts From the People's Republic of China; Certain Coated Paper Suitable for High-Quality Print Graphics Using Sheet-Fed Presses From the People's Republic of China; Seamless Carbon and Alloy Steel Standard, Line, and Pressure Pipe From the People's Republic of China; High Pressure Steel Cylinders From the People's Republic of China; Multilayered Wood Flooring From the People's Republic of China; Certain Crystalline Silicon Photovoltaic Cells, Whether or Not Assembled Into Modules, From the People's Republic of China; Utility Scale Wind Towers From the People's Republic of China; 80 FR 48812 (August 14, 2015).

¹¹ See Solar Products Order, 80 FR 8592 (February 18, 2015), and Certain Crystalline Silicon Photovoltaic Products From the People's Republic of China: Final Determination of Sales at Less Than Fair Value; 79 FR 76970-01 (December 23, 2014) where the Department indicated that it would instruct CBP to require a cash deposit equal to the weighted-average amount by which the normal value exceeds U.S. price, adjusted where appropriate for export subsidies and estimated domestic subsidy pass-through. The 30.06 rate is the adjusted rate.

¹² SolarOne Hong Kong and SolarOne Qidong's separate rates in both orders are combination rates. In the solar products antidumping duty proceeding, SolarOne Hong Kong's separate rate is classified under case number A-570-010-017, where SolarOne Hong Kong is identified as the exporter and SolarOne Qidong is identified as the manufacturer. In the same proceeding, SolarOne Qidong has a separate rate classified under case number A-570-010-016, where SolarOne Qidong is identified as the exporter and manufacturer. In the solar cells proceeding, SolarOne Hong Kong does not have a separate rate and SolarOne Qidong does have a separate rate, classified under case number A-570-979-014, where SolarOne Qidong is identified as the exporter and manufacturer. In updating these combination rates, we intend to revise both the names of the exporters and manufacturer consistent with our final determination that Q CELLS Hong Kong and Q CELLS Qidong are the successors-in-interest to SolarOne Hong Kong and SolarOne Qidong, respectively.

The Department furthermore intends to instruct CBP to collect estimated duties for all shipments of solar products from the PRC exported by Q CELLS Hong Kong and produced by Q CELLS Qidong, and entered or withdrawn from warehouse, for consumption on or after the publication date of this notice in the Federal Register at the current AD cash deposit rate for SolarOne Hong Kong (i.e., 30.06 percent).¹³ These cash deposit requirements shall remain in effect until further notice.

¹³ See Solar Products Order, 80 FR 8592 (February 18, 2015), and Certain Crystalline Silicon Photovoltaic Products From the People's Republic of China: Final Determination of Sales at Less Than Fair Value; 79 FR 76970-01 (December 23, 2014) where the Department indicated that it would instruct CBP to require a cash deposit equal to the weighted-average amount by which the normal value exceeds U.S. price, adjusted where appropriate for export subsidies and estimated domestic subsidy pass-through. The 30.06 rate is the adjusted rate.

Notification to Interested Parties

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing this final results notice in accordance with sections 751(b) and 777(i) of the Tariff Act of 1930, as amended, and 19 CFR 351.216 and 351.221(c)(3).

Dated: April 7, 2017.
Ronald K. Lorentzen,
Acting Assistant Secretary for Enforcement and Compliance.

[FR Doc. 2017-07491 Filed 4-12-17; 8:45 am]

BILLING CODE 3510-DS-P